DEPARTMENT OF TRANSPORTATION

Federal Aviation Administration

14 CFR Part 71

[Docket No. FAA-2005-21707; Airspace Docket No. 05-ACE-22]

Modification of Class E Airspace; Lincoln, NE

AGENCY: Federal Aviation Administration (FAA), DOT.

ACTION: Direct final rule; correction.

SUMMARY: This action corrects a direct final rule; request for comments that was published in the Federal Register on Friday, July 29, 2005 (70 FR 43741) (FR Doc. 05-21707). It removes the reference to Class C Airspace at Lincoln, NE.

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register document 05-21707, published on Friday, July 29, 2005 (70 FR 43741), corrected the airport name and removed references to “effective dates and times established in advance by a Notice to Airmen” from the legal descriptions for Class C and Class E airspace at Lincoln, NE. However, changes to the Class C airspace were incorrectly included in the direct final rule; request for comments.

Accordingly, pursuant to the authority delegated to me, the legal description of the Class E airspace area at Lincoln, NE, as published in the Federal Register on Friday, October 29, 2005 (70 FR 43741) (FR Doc. 05-21707), is corrected as follows:

On page 43741, Column 2, Docket Title, delete the words “Class C and”. On page 43741, Column 3, under SUMMARY, delete the words “Class C and”. On page 43741 Column 3, under SUPPLEMENTARY INFORMATION, delete the words “Class C airspace”. On page 43742, Column 2, under Adoption of the Amendment, delete the legal description of Class C airspace.

Issued in Kansas City, MO on August 2, 2005.
Elizabeth S. Wallis,
Acting Area Director, Western Flight Services Operations.

[FR Doc. 05-16520 Filed 8-19-05; 8:45 am]

BILLING CODE 4910-13-M